SMALL BUSINESS ADMINISTRATION

[Declaration of Disaster #3474]

State of Florida

Sarasota County and the contiguous counties of Charlotte, DeSoto, and Manatee in the State of Florida constitutes a disaster area as a result of a fire that occurred on October 16, 2002, at the Public Storage Inc. storage facility. Applications for loans for physical damage as a result of this disaster may be filed until the close of business on February 19, 2003, and for economic injury may be filed until the close of business on September 22, 2003, at the address listed below or other locally announced locations: U.S. Small Business Administration, Disaster Area 2 Office, One Baltimore Place, Suite 300, Atlanta, GA 30308.

The interest rates are:

| Percent
For Physical Damage:
Homeowners with credit available elsewhere | 6.625
Homeowners without credit available elsewhere | 3.312
Businesses with credit available elsewhere | 7.000
Businesses and non-profit organizations without credit available elsewhere | 3.500
Others (including non-profit organizations) with credit available elsewhere | 6.375
For Economic Injury:
Businesses and small agricultural cooperatives without credit available elsewhere | 3.500

The number assigned to this disaster for physical damage is 347405 and for economic injury is 9T6800.

(Catalog of Federal Domestic Assistance Program Nos. 59002 and 59008)
Dated: December 20, 2002.
Hector V. Barreto,
Administrator.

[FR Doc. 03-307 Filed 1-7-03; 8:45 am]

BILLING CODE 8025-01-P